DEPARTMENT OF COMMERCE

International Trade Administration

[C-570-971]

Multilayered Wood Flooring From the People's Republic of China: Final Results and Partial Rescission of Countervailing Duty Administrative Review; 2015

AGENCY: Enforcement and Compliance, International Trade Administration, Department of Commerce.

SUMMARY: The Department of Commerce (Commerce) determines that Jiangsu Senmao Bamboo Wood Industry Co., Ltd. (Jiangsu Senmao) and Fine Furniture (Shanghai) Limited (Fine Furniture), exporters of multilayered wood flooring (MLWF) from the People's Republic of China (China), received countervailable subsidies during the period of review (POR) January 1, 2015, through December 31, 2015.

DATES: Applicable June 14, 2018.

FOR FURTHER INFORMATION CONTACT: Dennis McClure or Jesus Saenz, AD/CVD Operations, Office VIII, Enforcement and Compliance, International Trade Administration, U.S. Department of Commerce, 1401 Constitution Avenue NW, Washington, DC 20230; telephone: (202) 482-5973 or (202) 482-8184, respectively.

SUPPLEMENTARY INFORMATION:

Background

Commerce selected Jiangsu Senmao and Fine Furniture as mandatory respondents in this administrative review of the countervailing duty (CVD) order on MLWF from the PRC.¹ Commerce published the Preliminary Results of the administrative review in the Federal Register on December 7, 2017.² We invited interested parties to comment on the Preliminary Results. On January 2, 2018, we received a case brief from Dun Hua Sen Tai Wood Co., Ltd.³ On January 16, 2018, we received case briefs from the Government of the People's Republic of China (GOC) and Fine Furniture.⁴ No party filed a rebuttal brief.

¹ See Multilayered Wood Flooring from the People's Republic of China: Countervailing Duty Order, 76 FR 76693 (December 8, 2011) (Order); see also Multilayered Wood Flooring from the People's Republic of China: Amended Antidumping and Countervailing Duty Orders, 77 FR 5484 (February 3, 2012), wherein the scope of the Order was modified (collectively, Order).

² See Multilayered Wood Flooring from the People's Republic of China: Preliminary Results of Countervailing Duty Administrative Review, Rescission of Review, in Part, and Intent to Rescind the Review in Part; 2015, 82 FR 57722 (December 7, 2017) (Preliminary Results), and accompanying Preliminary Decision Memorandum.

³ See Letter from Dun Hua Sen Tai Wood, “Multilayered Wood Flooring from the People's Republic of China (C-570-971): Case Brief of Dun Hua Sen Tai Wood Co., Ltd.,” dated January 2, 2018.

⁴ See Letters from the GOC, “Case Brief of the Government of the People's Republic of China,” and Fine Furniture, “Administrative Review of the Countervailing Duty Order on Multilayered Wood Flooring from the People's Republic of China: Case Brief,” dated January 16, 2018.

Commerce exercised its discretion to toll all deadlines affected by the closure of the Federal Government from January 20 through 22, 2018. After revising the deadline for tolling the due date for the final results of this administrative review as a result of the shutdown of the Federal Government, we extended the deadline for the final results to June 8, 2018.⁵

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days. See also Memorandum for James Maeder, Associate Deputy Assistant Secretary for Antidumping and Countervailing Duty Operations performing the duties of Deputy Assistant Secretary for Antidumping and Countervailing Duty Operations from Irene Darzenta Tzafolias, Director Office VIII, Antidumping and Countervailing Duty Operations, “Multilayered Wood Flooring from China: Extension of Deadline for Final Results of Countervailing Duty Administrative Review,” dated March 16, 2018.

Scope of the Order

The product covered by the Order is multilayered wood flooring from the PRC. For a complete description of the scope of the order, see the Issues and Decision Memorandum.⁶

⁶ See Memorandum to Gary Taverman, Deputy Assistant Secretary for Antidumping and Countervailing Duty Operations performing the non-exclusive functions and duties of the Assistant Secretary for Enforcement and Compliance, from James Maeder, Associate Deputy Assistant Secretary for Antidumping and Countervailing Duty Operations performing the duties of Deputy Assistant Secretary for Antidumping and Countervailing Duty Operations, “Decision Memorandum for Final Results and Partial Rescission of Countervailing Duty Administrative Review: Multilayered Wood Flooring from the People's Republic of China; 2015” (Issues and Decision Memorandum), dated concurrently with, and hereby adopted by, this notice.

Analysis of Comments Received

All issues raised in the parties' briefs are addressed in the Issues and Decision Memorandum. A list of the issues addressed is attached to this notice at Appendix I. The Issues and Decision Memorandum is a public document and is on file electronically via Enforcement and Compliance's Antidumping and Countervailing Duty Centralized Electronic Service System (ACCESS). ACCESS is available to registered users at http://access.trade.gov and in the Central Records Unit, Room B8024 of the main Department building. In addition, a complete version of the Issues and Decision Memorandum can be accessed directly at http://enforcement.trade.gov/frn/. The signed Issues and Decision Memorandum and the electronic version of the Issues and Decision Memorandum are identical in content.

Methodology

Commerce conducted this review in accordance with section 751(a)(1)(A) of the Tariff Act of 1930, as amended (Act). For each of the subsidy programs found countervailable, we find that there is a subsidy, i.e., a government-provided financial contribution that gives rise to a benefit to the recipient, and that the subsidy is specific.⁷ The Issues and Decision Memorandum contains a full description of the methodology underlying Commerce's conclusions, including any determination that relied upon the use of adverse facts available pursuant to sections 776(a) and (b) of the Act.

⁷ See sections 771(5)(B) and (D) of the Act regarding financial contribution; section 771(5)(E) of the Act regarding benefit; and section 771(5A) of the Act regarding specificity.

Partial Rescission of Administrative Review

As noted in the Preliminary Results, Commerce timely received no-shipment certifications from Changbai Mountain Development and Protection Zone Hongtu Wood Industrial Co., Ltd., Jiangsu Yuhui International Trade Co., Ltd., Jiaxing Hengtong Wood Co., Ltd., and Zhejiang Shuimojiangnan New Material Technology Co., Ltd. We inquired with U.S. Customs and Border Protection (CBP) whether these companies had shipped merchandise to the United States during the POR, and CBP provided no evidence to contradict the claims of no shipments made by these companies. Accordingly, we stated its intention to rescind the review with respect to these companies in the Preliminary Results. As the facts have remained the same since the Preliminary Results, we are rescinding the administrative review of these companies, pursuant to 19 CFR 351.213(d)(3).

Jiangsu Keri Wood Co., Ltd. (Jiangsu Keri Wood) and Linyi Bonn Flooring Manufacturing Co., Ltd. (Linyi Bonn) also timely filed no-shipment certifications. However, both companies subsequently withdrew their no-shipment submissions. Therefore, we are including Jiangsu Keri Wood and Linyi Bonn in this administrative review for purposes of the final results.

Rate for Non-Selected Companies Under Review

In this review, in addition to the two selected mandatory respondents, there are 105 companies for which a review was requested and not rescinded, but which were not selected for individual examination (non-selected respondents). For these companies, we applied the rate of mandatory respondent, Fine Furniture, the only above de minimis rate calculated in this review. For further information on the calculation of the non-selected rate, refer to the section in the Issues and Decision Memorandum entitled, “Ad Valorem Rate for Non-Selected Companies Under Review.”

Final Results of Administrative Review

In accordance with 19 CFR 351.221(b)(4)(i), we determine the following net subsidy rates for the 2015 administrative review:

Producer/exporter | Subsidy rate (percent)
Fine Furniture (Shanghai) Limited | 0.85
Jiangsu Senmao Bamboo Wood Industry Co., Ltd | 0.11 (de minimis)

Review-Specific Average Rate Applicable to the Following Non-Selected Companies:

Producer/exporter | Subsidy rate (percent)
A&W (Shanghai) Woods Co., Ltd | 0.85
Anhui Boya Bamboo & Wood Products Co., Ltd | 0.85
Anhui Longhua Bamboo Product Co., Ltd | 0.85
Anhui Suzhou Dongda Wood Co., Ltd | 0.85
Baishan Huafeng Wood Product Co., Ltd | 0.85
Baiying Furniture Manufacturer Co., Ltd | 0.85
Benxi Wood Company | 0.85
Changzhou Hawd Flooring Co., Ltd | 0.85
Cheng Hang Wood Co., Ltd | 0.85
Chinafloors Timber (China) Co. Ltd | 0.85
Dalian Dajen Wood Co., Ltd | 0.85
Dalian Huade Wood Product Co., Ltd | 0.85
Dalian Huilong Wooden Products Co., Ltd | 0.85
Dalian Jaenmaken Wood Industry Co., Ltd | 0.85
Dalian Jiahong Wood Industry Co., Ltd | 0.85
Dalian Jiuyuan Wood Industry Co., Ltd | 0.85
Dalian Kemian Wood Industry Co., Ltd | 0.85
Dalian Xinjinghua Wood Co., Ltd | 0.85
Dongtai Fuan Universal Dynamics, LLC | 0.85
Dongtai Zhangshi Wood Industry Co. Ltd | 0.85
Dun Hua Sen Tai Wood Co., Ltd | 0.85
Dunhua City Dexin Wood Industry Co., Ltd | 0.85
Dunhua City Hongyuan Wood Industry Co., Ltd | 0.85
Dunhua City Jisen Wood Industry Co., Ltd | 0.85
Dunhua City Wanrong Wood Industry Co., Ltd | 0.85
Dunhua Shengda Wood Industry Co., Ltd | 0.85
Fu Lik Timber (HK) Co., Ltd | 0.85
Fusong Jinlong Wooden Group Co., Ltd | 0.85
Fusong Qianqiu Wooden Product Co., Ltd | 0.85
GTP International Ltd | 0.85
Guangdong Yihua Timber Industry Co., Ltd | 0.85
Guangzhou Homebon Timber Manufacturing Co., Ltd | 0.85
Guangzhou Panyu Kangda Board Co., Ltd | 0.85
Guangzhou Panyu Southern Star Co., Ltd | 0.85
HaiLin LinJing Wooden Products, Ltd | 0.85
HaiLin XinCheng Wooden Products, Ltd | 0.85
Hangzhou Dazhuang Floor Co., Ltd | 0.85
Hangzhou Hanje Tec Co., Ltd | 0.85
Hangzhou Huahi Wood Industry Co., Ltd | 0.85
Huber Engineering Wood Corp. | 0.85
Hunchun Forest Wolf Wooden Industry Co., Ltd | 0.85
Hunchun Xingjia Wooden Flooring Inc. | 0.85
Hunchun Forest Wolf Wooden Industry Co., Ltd | 0.85
Hunchun Xingjia Wooden Flooring Inc. | 0.85
Huzhou Chenghang Wood Co., Ltd | 0.85
Huzhou City Nanxun Guangda Wood Co., Ltd | 0.85
Huzhou Fulinmen Imp. & Exp. Co., Ltd | 0.85
Huzhou Fuma Wood Co., Ltd | 0.85
Huzhou Fuma Wood Bus. Co., Ltd | 0.85
Huzhou Jesonwood Co., Ltd | 0.85
Huzhou Muyun Wood Co., Ltd | 0.85
Huzhou Sunergy World Trade Co., Ltd | 0.85
Jiashan Huijiale Decoration Material Co., Ltd | 0.85
Jiafeng Wood (Suzhou) Co., Ltd | 0.85
Jiangsu Guyu International Trading Co., Ltd | 0.85
Jiangsu Kentier Wood Co., Ltd | 0.85
Jiangsu Keri Wood Co., Ltd | 0.85
Jiangsu Mingle Flooring Co | 0.85
Jiangsu Simba Flooring Co., Ltd | 0.85
Jiashan On-Line Lumber Co., Ltd | 0.85
Jilin Forest Industry Jinqiao Flooring Group Co., Ltd | 0.85
Jilin Xinyuan Wooden Industry Co., Ltd | 0.85
Karly Wood Product Limited | 0.85
Kember Flooring, Inc | 0.85
Kemian Wood Industry (Kunshan) Co., Ltd | 0.85
Kingman Floors Co., Ltd | 0.85
Les Planchers Mercier, Inc | 0.85
Linyi Anying Wood Co., Ltd | 0.85
Linyi Bonn Flooring Manufacturing Co., Ltd | 0.85
Linyi Youyou Wood Co., Ltd | 0.85
Metropolitan Hardwood Floors, Inc | 0.85
Mudanjiang Bosen Wood Industry Co., Ltd | 0.85
Nakahiro Jyou Sei Furniture (Dalian) Co., Ltd | 0.85
Pinge Timber Manufacturing (Zhejiang) Co., Ltd | 0.85
Power Dekor Group Co., Ltd. (Exp) | 0.85
Qingdao Barry Flooring Co., Ltd | 0.85
Shandong Kaiyuan Wood Industry Co., Ltd | 0.85
Shanghai Anxin (Weiguang) Timber Co., Ltd | 0.85
Shanghai Eswell Timber Co., Ltd | 0.85
Shanghai Lairunde Wood Co., Ltd | 0.85
Shanghai Lizhong Wood Products Co., Ltd./The Lizhong Wood Industry Limited Companyof Shanghai | 0.85
Shanghai New Sihe Wood Co., Ltd | 0.85
Shanghai Shenlin Corporation | 0.85
Shenyang Haobainian Wooden Co., Ltd | 0.85
Shenzhenshi Huanwei Woods Co., Ltd | 0.85
Sino-Maple (Jiangsu) Co., Ltd | 0.85
Suzhou Dongda Wood Co., Ltd | 0.85
Tongxiang Jisheng Import and Export Co., Ltd | 0.85
Vicwood Industry (Suzhou) Co. Ltd | 0.85
Xiamen Yung De Ornament Co., Ltd | 0.85
Xuzhou Antop International Trade Co., Ltd | 0.85
Xuzhou Shenghe Wood Co., Ltd | 0.85
Yekalon Industry, Inc. (Exp) | 0.85
Yihua Lifestyle Technology Co., Ltd | 0.85
Yingyi-Nature (Kunshan) Wood Industry Co., Ltd | 0.85
Yixing Lion-King Timber Industry | 0.85
Zhejiang Biyork Wood Co., Ltd | 0.85
Zhejiang Dadongwu Green Home Wood Co., Ltd | 0.85
Zhejiang Desheng Wood Industry Co., Ltd | 0.85
Zhejiang Fudeli Timber Industry Co., Ltd | 0.85
Zhejiang Fuerjia Wooden Co., Ltd | 0.85
Zhejiang Fuma Warm Technology Co., Ltd | 0.85
Zhejiang Haoyun Wooden Co., Ltd | 0.85
Zhejiang Longsen Lumbering Co., Ltd | 0.85
Zhejiang Simite Wooden Co., Ltd | 0.85
Zhejiang Shiyou Timber Co., Ltd | 0.85

Assessment and Cash Deposit Instructions

In accordance with 19 CFR 351.212(b)(2), Commerce intends to issue assessment instructions to CBP 15 days after the date of publication of these final results of review to liquidate shipments of subject merchandise entered, or withdrawn from warehouse, for consumption on or after January 1, 2015, through December 31, 2015, for the above-listed companies at the applicable ad valorem assessment rates listed, except for those companies to which a de minimis rate is assigned. Concerning those companies with a de minimis rate, Commerce intends to issue assessment instructions to CBP to liquidate shipments of subject merchandise entered, or withdrawn from warehouse, for consumption on or after January 1, 2015, through December 31, 2015, without regard to countervailing duties.

Commerce also intends to instruct CBP to collect cash deposits of estimated countervailing duties in the amounts shown for each of the respective companies listed above, except, where the rate calculated in these final results is de minimis, no cash deposit will be required on shipments of the subject merchandise entered or withdrawn from warehouse, for consumption on or after the date of publication of the final results of this review. For all nonreviewed firms, we will instruct CBP to collect cash deposits of estimated countervailing duties at the most recent company-specific or all others rate applicable to the company, as appropriate. These cash deposit requirements, effective upon publication of these final results, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these final results in accordance with sections 751(a)(1) and 777(i)(1) of the Act.

Dated: June 8, 2018.
Gary Taverman,
Deputy Assistant Secretary for Antidumping and Countervailing Duty Operations performing the non-exclusive functions and duties of the Assistant Secretary for Enforcement and Compliance.

Appendix I

List of Topics Discussed in the Final Decision Memorandum

I. Summary

II. Background

III. List of Interested Party Comments

IV. Scope of the Order

V. Partial Rescission of Administrative Review

VI. Subsidies Valuation Information

VII. Discount Rates

VIII. Use of Facts Otherwise Available and Adverse Facts Available and Corroboration of Secondary Information

IX. Programs Determined to Be Countervailable

X. Programs Determined Not to Be Used

XI. Ad Valorem Rate for Non-Selected Companies Under Review

XII. Analysis of Comments

Comment 1: Electricity for LTAR—Application of Adverse Facts Available

Comment 2: Electricity for LTAR—Calculation Methodology

Comment 3: Countervailability of Allowance for Attorney's Fees Program

Comment 4: Whether To Assign Non-Selected Company Rate to Dun Hua Sen Tai Wood

XIII. Conclusion

[FR Doc. 2018-12772 Filed 6-13-18; 8:45 am]

BILLING CODE 3510-DS-P